GENERAL SERVICES ADMINISTRATION

41 CFR Chapters 300, 301, 302, 303 and 304

[FTR Case 2025-05; Docket No. GSA-FTR- 2025-0003; Sequence No. 1]

RIN 3090-AL06

Federal Travel Regulation; Reorganizing and Streamlining the Federal Travel Regulation To Improve Operational Efficiency

AGENCY: Office of Government-wide Policy (OGP), General Services Administration (GSA).

ACTION: Ratification.

SUMMARY: GSA is publishing notification of the Administrator of General Services' ratification of a rule.

DATES: The ratification was signed on January 14, 2026, and relates back to the original date of the action that it ratifies.

FOR FURTHER INFORMATION CONTACT: Alexander Kurien, Deputy Associate Administrator, Office of Government-wide Policy, at 202-208-7642 or alexander.kurien@gsa.gov, for clarification of content. For information pertaining to status or publication schedules, contact the Regulatory Secretariat Division at 202-501-4755 or GSARegSec@gsa.gov. Please cite FTR Case 2025-05.

SUPPLEMENTARY INFORMATION: On January 14, 2026, the Administrator of General Services ratified the final rule titled “Reorganizing and Streamlining the Federal Travel Regulation To Improve Operational Efficiency.” See 90 FR 56890. GSA is now publishing this ratification in the Federal Register out of an abundance of caution. Neither the ratification nor the publication is a statement that the ratified action would be invalid absent the ratification, whether published or otherwise.

Edward C. Forst,
Administrator of General Services.

BILLING CODE 6820-14-P

[FR Doc. 2026-00929 Filed 1-16-26; 8:45 am]

BILLING CODE 6820-14-C